DEPARTMENT OF TRANSPORTATION

Federal Aviation Administration

14 CFR Part 25

[Docket No.: FAA-2023-1442]

Accepted Means of Compliance; Airworthiness Standards: Transport Category Airplanes

AGENCY: Federal Aviation Administration (FAA), Department of Transportation (DOT).

ACTION: Notification of availability.

SUMMARY: This document announces SAE International (SAE) aerospace standard (AS) for use as a means of compliance to the applicable airworthiness standards for transport category airplanes. The FAA accepts SAE Designation AS6960 “Performance Standards for Seat Furnishings”, section 3.2.3 as a means of compliance with regard to the design of seat furnishings.

DATES: Effective August 4, 2023.

FOR FURTHER INFORMATION CONTACT: Dan Jacquet, Cabin Safety Section, AIR-624, Technical Policy Branch, Policy & Standards Division, Federal Aviation Administration, 2200 South 216th Street, Des Moines, WA 98198, telephone 206-231-3208, email Daniel.Jacquet@faa.gov.

SUPPLEMENTARY INFORMATION:

Background

Under the provisions of the National Technology Transfer and Advancement Act of 1995 ¹ and Office of Management and Budget (OMB) Circular A-119, “Federal Participation in the Development and Use of Voluntary Consensus Standards and in Conformity Assessment Activities,” effective January 27, 2016, the FAA participates in the development of consensus standards and uses consensus standards as a means of carrying out its policy objectives where appropriate. The FAA has been working with industry and other stakeholders through the SAE Aircraft Seat Committee to develop consensus standards for seat furnishings to prevent hazards, such as object entrapment.

This document is the result of a safety recommendation, precipitated by an event where a passenger cell phone was crushed in the mechanism of a first class cabin seat on a British Airways Boeing 747 airplane that caused smoke and fire. A pilot declared an emergency landing due to the fire. The crew used four Bromochlorodifluoromethane (BCF) and two water fire extinguishers to extinguish the cell phone fire.

The FAA investigators found that the first and business class electrical power seats could jam a cell phone or tablet within its mechanism and crush its lithium battery to cause a fire. In the 2017 safety recommendation, the British Airways maintenance department said they saw at least one cell phone per day get jammed in electrically operated seats. Also noted in the safety recommendation, American Airlines maintenance department reported receiving five calls per day to retrieve lost cell phones in seats at John F. Kennedy International Airport alone. According to the FAA website lithium battery incidents continue to be reported and are ongoing. (https://www.faa.gov/hazmat/resources/lithium_batteries/incidents)

The FAA determined that seat designs that allow small objects (e.g., cell phones, keys, wallets) to migrate to a location that prevents the return of critical seat features to their taxi, takeoff, and landing position, or be crushed to cause a potential fire hazard, is non-compliant with §§ 25.601 and 25.1301(a)(4). Section 25.601 states, in part, “The airplane may not have design features or details that experience has shown to be hazardous or unreliable.” In addition, § 25.1301(a)(4) states, “Each item of installed equipment must function properly when installed.” The FAA accepts SAE Designation AS6960 “Performance Standards for Seat Furnishings”, section 3.2.3 as a means of compliance for Title 14, Code of Federal Regulations (14 CFR) 25.601 and 25.1301(a)(4) with regard to the design of seat furnishings.

Means of Compliance Accepted

The FAA accepts SAE AS6960, “Performance Standards for Seat Furnishings”, section 3.2.3 as an acceptable means of compliance with §§ 25.601 and 25.1301(a)(4) for preventing hazards, such as stated herein, from object entrapment in seat furnishings. The FAA is notifying the public by publishing the acceptance of this consensus standard in the Federal Register.

The means of compliance accepted by this document is one means, but not the only means, of complying with §§ 25.601 and 25.1301(a)(4) with regard to design of seat furnishings. Applicants who desire to use means of compliance reflected by other revisions to SAE standards not previously accepted may seek guidance and possible acceptance from the FAA for the use of those means of compliance on a case-by-case basis. Applicants may also propose alternative means of compliance for FAA review and possible acceptance.

Availability

SAE AS6960, “Performance Standards for Seat Furnishings in Transport Category Aircraft” is available for purchase at https://www.sae.org/standards or by contacting SAE at telephone number (877) 606-7323 or through email at https://store.sae.org. To inquire about consensus standard content, contact Nicole Mattern, Aircraft Seat Committee, (724) 772-4039 at Nicole.Mattern@sae.org.

Issued in Kansas City, Missouri.
Mary Schooley,
Acting Manager, Technical Policy Branch, Policy and Standards Division, Aircraft Certification Service.

[FR Doc. 2023-16094 Filed 8-3-23; 8:45 am]

BILLING CODE 4910-13-P